DEPARTMENT OF STATE

[Public Notice: 12005]

Notice of Public Meeting in Preparation for International Maritime Organization PPR 10 Meeting

The Department of State will conduct a public meeting at 1 p.m. on Tuesday, April 11, 2023, both in-person at Coast Guard Headquarters in Washington, DC, and via Microsoft Teams. The primary purpose of the meeting is to prepare for the 10th session of the International Maritime Organization's (IMO) Pollution Prevention and Response Sub-Committee (PPR 10) to be held in London, United Kingdom from April 24 to 28, 2023.

Members of the public may participate up to the capacity of the Microsoft Teams line or up to the seating capacity of the room if attending in-person. The meeting location will be the United States Coast Guard Headquarters, Ray Evans Conference Room: 6I10-01-A, and the Microsoft Teams information is Conference Call-in number = +1 410-874-6742; Phone Conference ID = 801252414#. To RSVP, participants should contact the meeting coordinator, Ms. Nicole M. Schindler, by email at Nicole.M.Schindler@uscg.mil. Ms. Schindler will provide access information for in-person and virtual attendance.

The agenda items to be considered at this meeting mirror those to be considered at PPR 10, and include:

• Adoption of the agenda

• Decisions of other IMO bodies

• Safety and pollution hazards of chemicals and preparation of consequential amendments to the IBC Code

• Development of an operational guide on the response to spills of Hazardous and Noxious Substances (HNS)

• Review of the 2011 Guidelines for the control and management of ships' biofouling to minimize the transfer of invasive aquatic species (resolution MEPC.207(62))

• Reduction of the impact on the Arctic of Black Carbon emissions from international shipping

• Standards for shipboard gasification of waste systems and associated amendments to regulation 16 of MARPOL Annex VI

• Development of amendments to MARPOL Annex VI and the NOX Technical Code on the use of multiple engine operational profiles for a marine diesel engine

• Revision of regulation 13.2.2 of MARPOL Annex VI to clarify that a marine diesel engine replacing a boiler shall be considered a replacement engine

• Development of measures to reduce risks of use and carriage of heavy fuel oil as fuel by ships in Arctic waters

• Review of the IBTS Guidelines and amendments to the IOPP Certificate and Oil Record Book

• Revision of MARPOL Annex IV and associated guidelines

• Follow-up work emanating from the Action Plan to address marine plastic litter from ships

• Unified interpretation of provisions of IMO environment-related conventions

• Biennial agenda and provisional agenda for PPR 11

• Election of Chair and Vice-Chair for 2024

• Any other business

• Report to the Marine Environment Protection Committee

Please note: The IMO may, on short notice, adjust the PPR 10 agenda to accommodate the constraints associated with the meeting format. Any changes to the agenda will be reported to those who RSVP.

Those who plan to participate should contact the meeting coordinator, Ms. Nicole M. Schindler, by email at Nicole.M.Schindler@uscg.mil, by phone at (202) 372-1403, or in writing at United States Coast Guard (CG-OES), ATTN: Ms. Nicole M. Schindler, 2703 Martin Luther King Jr. Ave. SE, Stop 7509, Washington, DC 20593-7509 not later than April 5, 2023. Please note, that due to security considerations, two valid, government issued photo identifications must be presented to gain entrance to the Douglas A. Munro Coast Guard Headquarters Building at St. Elizabeth's. This building is accessible by taxi, public transportation, and privately owned conveyance (upon request). Additionally, members of the public needing reasonable accommodation should advise the meeting coordinator not later than April 5, 2023. Requests made after that date will be considered but might not be possible to fulfill.

Additional information regarding this and other IMO public meetings may be found at: https://www.dco.uscg.mil/IMO.

(Authority: 22 U.S.C. 2656 and 5 U.S.C. 552)

Emily A. Rose,
Coast Guard Liaison Officer, Office of Ocean and Polar Affairs, Department of State.

[FR Doc. 2023-05205 Filed 3-13-23; 8:45 am]

BILLING CODE 4710-09-P